INTERNATIONAL TRADE COMMISSION

[Investigation No. 337-TA-581]

In the Matter of Certain Inkjet Ink Supplies and Components Thereof: Notice of a Commission Determination Not To Review an Initial Determination Granting the Joint Motion of Complainant Hewlett-Packard Company and Respondent All Media Outlet Corporation To Terminate the Investigation With Respect to That Respondent; Termination of the Investigation

AGENCY: U.S. International Trade Commission.

ACTION: Notice.

SUMMARY: Notice is hereby given that the U.S. International Trade Commission has determined not to review the presiding administrative law judge's (“ALJ”) initial determination (“ID”) (Order No. 9) granting the joint motion of complainant Hewlett-Packard Company (“H-P”) and respondent All Media Outlet Corporation d/b/a Inkandbeyond.com (“All Media”) to terminate the investigation with respect to All Media, and terminating the investigation in its entirety.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 6, 2006, based on a complaint filed by H-P of California, subsequently amended, alleging violations of section 337 of the Tariff Act of 1930 (19 U.S.C. 1337) in the importation into the United States, the sale for importation, or the sale within the United States after importation of certain inkjet ink supplies and components thereof by reason of infringement of one or more of claims 1-4, 7-9, 22, 24, and 25 of U.S. Patent No. 5,825,387; claims 1-9 and 12 of U.S. Patent No. 6,793,329; claims 8-10, 14, and 15 of U.S. Patent No. 6,074,042; claims 1-6 and 19-29 of U.S. Patent No. 6,588,880; claims 1-7 and 11-18 of U.S. Patent No. 6,364,472; claims 6, 7, 9, and 10 of U.S. Patent No. 6,089,687; and claims 1-3 and 5 of U.S. Patent No. 6,264,301. The complaint named six respondents: Ninestar Technology Co. Ltd. of China, Ninestar Technology Co. Ltd. of California, Aurora Eshop, Inc. d/b/a butterflyinkjet.com of California, Iowaink, LLC d/b/a iowaink.com of Iowa, L2 Commerce Inc. d/b/a Printmicro.com of California, and All Media Outlet Corp. d/b/a Inkandbeyond.com of California.

On March 19, 2007, H-P and All Media jointly moved to terminate the investigation with respect to All Media, based on a settlement agreement. The Commission investigative attorney supported the motion.

On June 6, 2007, the ALJ issued an ID (Order No. 9) granting the joint motion to terminate the investigation with regard to All Media. The ALJ found that the joint motion complied with the requirements of Commission Rule 210.21 (19 CFR 210.21). The ALJ also concluded that, pursuant to Commission Rule 210.50(b)(2) (19 CFR 210.50(b)(2)), there is no evidence that termination of this investigation will prejudice the public interest. In addition, the ALJ noted that the termination of litigation under these circumstances as an alternative method of dispute resolution is generally in the public interest. Accordingly, the ALJ terminated the investigation as to All Media. In addition, the ALJ terminated the investigation in its entirety. No petitions for review of this ID were filed. The Commission has determined not to review the ID.

The authority for the Commission's determination is contained in section 337 of the Tariff Act of 1930, as amended (19 U.S.C. 1337), and in section 210.42 of the Commission's Rules of Practice and Procedure (19 CFR 210.42).

By order of the Commission.
Issued: June 27, 2007.
Marilyn R. Abbott,
Secretary to the Commission.

[FR Doc. E7-12752 Filed 6-29-07; 8:45 am]

BILLING CODE 7020-02-P